DEPARTMENT OF TRANSPORTATION

Federal Aviation Administration

14 CFR Part 39

[Docket No. 2001-SW-64-AD; Amendment 39-12604; AD 2001-26-52]

RIN 2120-AA64

Airworthiness Directives; Eurocopter Deutschland GmbH Model EC135 Helicopters

AGENCY: Federal Aviation Administration, DOT.

ACTION: Final rule; request for comments.

SUMMARY: This document publishes in the Federal Register an amendment adopting Airworthiness Directive (AD) 2001-26-52, which was sent previously to all known U.S. owners and operators of Eurocopter Deutschland GmbH (ECD) Model EC135 helicopters by individual letters. This AD requires, before further Instrument Flight Rule (IFR) flight, inserting a copy of the AD into the Limitations Section of the Rotorcraft Flight Manual (RFM) and replacing each affected Smart Multifunction Display (SMD45H) as specified. Removing the AD from the RFM is required after replacing each affected SMD45H. This AD is prompted by the discovery of an error in the assembly of an internal connector of the SMD45H that sometimes results in an inversion of the display information. The SMD45H provides the flightcrew with essential flight and navigation information. The actions specified by this AD are intended to prevent erroneous flight or navigation display information, produced by a faulty SMD45H, and subsequent loss of control of the helicopter.

DATES: Effective February 6, 2002 to all persons except those persons to whom it was made immediately effective by Emergency AD 2001-26-52, issued on December 19, 2001, which contained the requirements of this amendment.

Comments for inclusion in the Rules Docket must be received on or before March 25, 2002.

ADDRESSES: Submit comments in triplicate to the Federal Aviation Administration (FAA), Office of the Regional Counsel, Southwest Region, Attention: Rules Docket No. 2001-SW-64-AD, 2601 Meacham Blvd., Room 663, Fort Worth, Texas 76137. You may also send comments electronically to the Rules Docket at the following address: 9-asw-adcomments@faa.gov.

FOR FURTHER INFORMATION CONTACT: Jorge Castillo, Aviation Safety Engineer, FAA, Rotorcraft Directorate, Rotorcraft Standards Staff, Fort Worth, Texas 76193-0110, telephone (817) 222-5127, fax (817) 222-5961.

SUPPLEMENTARY INFORMATION: On December 19, 2001, the FAA issued Emergency AD 2001-26-52 for ECD Model EC135 helicopters which requires, before further IFR flight, inserting a copy of the AD into the Limitations Section of the RFM and replacing each affected SMD45H as specified. Removing the AD from the RFM is required after replacing each affected SMD45H. That action was prompted by the discovery of an error in the assembly of an internal connector of the SMD45H that sometimes results in an inversion of the display information. The SMD45H provides the flightcrew with essential flight and navigation information. The emergency AD was issued to prevent erroneous flight or navigation display information, produced by a faulty SMD45H, and subsequent loss of control of the helicopter.

The FAA has reviewed ECD Alert Service Bulletin EC135-31A-002, Revision 2, dated November 15, 2001 (ASB). The ASB specifies, in order to resume IFR operation, to immediately replace certain SMD45Hs. The ASB also specifies affixing placards and inserting RFM supplements informing the pilot of display anomalies, certain restrictions, and certain limitations until all SMD45Hs have been replaced.

The Luftfahrt-Bundesamt (LBA), the airworthiness authority for the Federal Republic of Germany, notified the FAA that an unsafe condition may exist on ECD Model EC135 helicopters. The LBA advises that sometimes an inversion of the symbols occurs on some of the SMD45Hs. The LBA classified the ASB as mandatory and issued AD No. 2001-306/3, dated November 15, 2001, to ensure the continued airworthiness of these helicopters in the Federal Republic of Germany.

This helicopter model is manufactured in the Federal Republic of Germany and is type certificated for operation in the United States under the provision of 14 CFR 21.29 and the applicable bilateral agreement. Pursuant to this bilateral agreement, the LBA has kept the FAA informed of the situation described above. The FAA has examined the findings of the LBA, reviewed all available information, and determined that AD action is necessary for products of this type design that are certificated for operations in the United States.

Since the unsafe condition described is likely to exist or develop on other helicopters of the same type design, the FAA issued Emergency AD 2001-26-52 to prevent erroneous flight or navigation display information, produced by a faulty SMD45H, and subsequent loss of control of the helicopter. The AD requires, before further IFR flight, the following:

• Inserting a copy of the AD into the Limitations Section of the RFM to prohibit IFR flight until the affected SMD45Hs are replaced.

• Replacing each affected SMD45H with the corresponding SMD45Hs as specified in the AD.

• After replacing the SMD45Hs in accordance with the AD, removing the AD from the RFM.

Replacing each specified SMD45H and removing the AD from the RFM are terminating actions for the requirements of the AD. The short compliance time involved is required because the previously described critical unsafe condition can adversely affect the controllability of the helicopter. Therefore, the actions described previously are required before further IFR flight, and this AD must be issued immediately.

Since it was found that immediate corrective action was required, notice and opportunity for prior public comment thereon were impracticable and contrary to the public interest, and good cause existed to make the AD effective immediately by individual letters issued on December 19, 2001 to all known U.S. owners and operators of ECD Model EC135 helicopters. These conditions still exist, and the AD is hereby published in the Federal Register as an amendment to 14 CFR 39.13 to make it effective to all persons.

The FAA estimates that 15 helicopters of U.S. registry will be affected by this AD, that it will take approximately 6 work hours per helicopter to replace each SMD45H, and that the average labor rate is $60 per work hour. The manufacturer has stated that they will provide the SMD45Hs at no cost. Based on these figures, the total cost impact of the AD on U.S. operators is estimated to be $5400 to replace an SMD45H on each affected helicopter.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-64-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-26-52 Eurocopter Deutschland GMBH: Amendment 39-12604. Docket No. 2001-SW-64-AD.

Applicability: Model EC135 helicopters with a Smart Multifunction Display (SMD45H) as the primary flight display (PFD) or navigation display (ND), certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required before further Instrument Flight Rule (IFR) flight, unless accomplished previously.

To prevent erroneous flight or navigation display information, produced by a faulty SMD45H, and subsequent loss of control of the helicopter, accomplish the following:

(a) Insert a copy of this AD into the Limitations Section of the Rotorcraft Flight Manual (RFM) to prohibit IFR flight until the old part-numbered SMD45Hs listed in Table 1 of this AD are replaced.

(b) Replace each old part-numbered SMD45H with the corresponding new part-numbered SMD45H as specified in Table 1 of this AD.

Table 1.—Retrofit Kit EC135-31A-002-2.C SMD45H
Old Part Number | New Part Number
(1) C19209VF11 | C19209VG11
(2) C19267VF11 | C19267VG11
(3) C19209SF10 | C19209SG10
(4) C19267SF10 | C19267SG10
(5) C19267RF10 | C19267RG10
(6) C19209NF10 | C19209NG10
(7) C19267NF10 | C19267NG10
(8) C19209HF09 | C19209VG11
(9) C19267GF09 | C19267GG09
(10) C19267DF10 | C19267DG10

(c) After replacing the old part-numbered SMD45Hs in accordance with paragraph (b) of this AD, remove this AD from the RFM.

(d) Replacing each specified SMD45H and removing this AD from the RFM are terminating actions for the requirements of this AD.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(f) Special flight permits will not be issued.

(g) This amendment becomes effective on February 6, 2002, to all persons except those persons to whom it was made immediately effective by Emergency AD 2001-26-52, issued December 19, 2001, which contained the requirements of this amendment.

Note 3: The subject of this AD is addressed in Luftfahrt-Bundesamt (Federal Republic of Germany) AD 2001-306/3, dated November 15, 2001.

Issued in Fort Worth, Texas, on January 11, 2002.
David A. Downey,
Manager, Rotorcraft Directorate, Aircraft Certification Service.

[FR Doc. 02-1451 Filed 1-18-02; 8:45 am]

BILLING CODE 4910-13-P